ENVIRONMENTAL PROTECTION AGENCY

[FRL-9218-4]

Notice of a Regional Waiver of Section 1605 (Buy American Requirement) of the American Recovery and Reinvestment Act of 2009 (ARRA) to the City of Kimberly (the City), ID

AGENCY: Environmental Protection Agency (EPA).

ACTION: Notice.

SUMMARY: The Regional Administrator of EPA Region 10 is hereby granting a waiver of the Buy American requirements of ARRA Section 1605(a) under the authority of Section 1605(b)(2) [manufactured goods are not produced in the United States in sufficient and reasonably available quantities and of a satisfactory quality] to the City for the purchase of three ABB ultra low harmonics (ULH) ACS800 Series, variable frequency drives (VFDs): 75-HP VFD, 100-HP VFD, and 150-HP VFD manufactured in Helsinki, Finland by ABB. This is a project specific waiver and only applies to the use of the specified products for the ARRA project being proposed. Any other ARRA recipient that wishes to use the same product must apply for a separate waiver based on project specific circumstances. The waiver applicant states that the project requires the ULH VFDs be installed because they do not require a separate harmonics filter and thus can be installed in smaller places. In addition, the waiver applicant provided a supplemental requirement from the local utility, Idaho Power. Idaho Power requires that harmonic distortion be minimized in accordance with the power quality standard, IEEE STD 519-1992. According to the waiver applicant's consulting engineer, the relevant requirement in IEEE STD 519-1992 is that the VFD generate 4% or less AC line harmonic distortion without additional filtration. There are no known domestic manufacturers of comparable VFDs that satisfactorily meet all aspects of the project specifications.

The Regional Administrator is making this determination based on the review and recommendations of the Drinking Water Unit. The City has provided sufficient documentation to support their request.

DATES: Effective Date: October 13, 2010.

FOR FURTHER INFORMATION CONTACT: Johnny Clark, DWSRF ARRA Program Management Analyst, Drinking Water Unit, Office of Water & Watersheds (OWW), (206) 553-0082, U.S. EPA Region 10 (OWW-136), 1200 Sixth Avenue, Suite 900, Seattle, WA 98101.

SUPPLEMENTARY INFORMATION:

In accordance with ARRA Section 1605(c), the EPA hereby provides notice that it is granting a project waiver of the requirements of Section 1605(a) of Public Law 111-5, Buy American requirements, to the City for the acquisition of three ABB ultra low harmonics (ULH) ACS800 Series variable frequency drives (VFDs): 75-HP VFD, 100-HP VFD, and 150-HP VFD manufactured in Helsinki, Finland by ABB. The applicant indicates that ABB ULH VFDs are the ideal components, based upon project specifications and there are no known U.S. manufacturers that manufacture comparable products. The ARRA funded project involves water system improvements in well house #7, and two water storage tanks. One 150-HP VFD is to be incorporated into the new Well House #7; one 100-HP VFD is to be incorporated into the existing Redwood Booster Station on an existing booster pump; and one 75-HP VFD is to be incorporated into the existing City Hall Booster Station on a new booster pump. The applicant indicates ULH VFDs do not require a separate harmonics filter and thus can be installed in smaller spaces. At the Redwood Booster Station, which the applicant explains has limited space and is located in a residential neighborhood, the ULH VFD could be installed inside of the building rather than installing a separate harmonics filter outside of the building with another VFD. Harmonic filters are reportedly noisy and susceptible to damage if installed outside the building. The applicant also indicated that ULH VFDs are more efficient and require less maintenance than other VFDs, thus providing the City with long-term cost savings.

Within the requirements of the project specifications, there are critical elements, capability and requirements regarding the VFDs, to include the following:

(a) Employ microprocessor based inverter logic isolated from power circuits.

(b) Employ pulse width modulated inverter system.

(c) Employ switching power supply operating off DC link.

(d) Design for ability to operate controller with motor disconnected from output for testing and servicing.

(e) Design for drive output rotation to be independent of input rotation.

(f) Design to limit output voltage rate of rise to 500 volts per micro second (1-60HP) and 2000 volts per micro second (75HP+).

(g) Design to be self protected while running or at rest against:

1. Switching motor on drive output

2. Output line to line or line to ground short circuits

3. Drive overload

(h) Design to drive a 150-HP motor or 75-HP motor up to 40 feet away without exceeding the requirements of MGI-1993.

(i) Design to include electronic thermal overload protection without motor temperature feedback. Provide class 10 motor protection, with speed sensitive response.

(j) Design for speed regulation ±.5% of rated speed with a 10 to 90% load variation from 6 to 60 Hz.

(k) Design for three programmable skip frequencies.

In addition, the local utility, Idaho Power, requires that harmonic distortion be minimized in accordance with the power quality standard, IEEE STD 519-1992. According to the applicant's consulting engineer, the relevant requirement in IEEE STD 519-1992 is that the VFD will generate 4% or less AC line total harmonic distortion without additional filtration. An inquiry by EPA's national contractor (Cadmus) confirmed that no known domestic manufacturers of comparable VFDs meet all aspects of the project specification, which is supported by the available information. Based on available information, it is unlikely that other VFDs would function within the requirement of the project specifications. EPA finds these considerations as stated by the City provide ample functional justification for their specification of these ULH VFDs.

EPA has determined that the City's request can be processed as timely even though the request was made after the construction contract was signed. Consistent with direction of the Office of Management and Budget (OMB) Guidance at 2 CFR 176.120, EPA has evaluated the City's request to determine if the request constitutes a late request. EPA will generally regard waiver requests with respect to components that were specified in the bid solicitation or in a general/primary construction contract as “late” if submitted after the contract date. However, in this case EPA has determined that the City's request, though requested after the contract date, may be processed as if it were timely because the need for the waiver was not reasonably foreseeable. The local utility, Idaho Power, requires that harmonic distortion be minimized in accordance with the power quality standard, IEEE STD 519-1992. Although the design specifications were drafted to meet the Idaho Power requirements, it became known much later after the contract signing that domestic manufactured VFDs required additional space for installation of harmonic filters as compared to non-domestic manufactured VFDs. A domestic manufactured VFD requires the installation of a filter to minimize the harmonic distortion transferred to the utility from the drive; a non-domestic manufactured VFD is able to accomplish a harmonic minimalization without the addition of a separate filtering device; therefore, fitting in a smaller footprint.

The April 28, 2009 EPA HQ Memorandum, Implementation of Buy American provisions of Public Law 111-5, the “American Recovery and Reinvestment Act of 2009”, defines “satisfactory quality” as the quality of iron, steel or the relevant manufactured good as specified in the project plans and design. The City has provided information to the EPA representing that there are currently no domestic manufacturers of the ULH VFDs that meet the project specification requirements. Based on additional research by EPA's consulting contractor (Cadmus) and to the best of the Region's knowledge at this time, there does not appear to be any other manufacturers capable of meeting the City's specifications.

Furthermore, the purpose of the ARRA provisions was to stimulate economic recovery by funding current infrastructure construction, not to delay projects that are already shovel ready by requiring entities, like the City, to revise their design and potentially choose a more costly and less effective project. The imposition of ARRA Buy American requirements on such projects eligible for DWSRF assistance would result in unreasonable delay and thus displace the “shovel ready” status for this project. To further delay construction is in direct conflict with the most fundamental economic purposes of ARRA; to create or retain jobs.

The Drinking Water Unit has reviewed this waiver request and has determined that the supporting documentation provided by the City is sufficient to meet the following criteria listed under Section 1605(b) and in the April 28, 2009, Implementation of Buy American provisions of Public Law 111-5, the “American Recovery and Reinvestment Act of 2009” Memorandum: Iron, steel, and the manufactured goods are not produced in the United States in sufficient and reasonably available quantities and of a satisfactory quality.

The basis for this project waiver is the authorization provided in Section 1605(b)(2), due to the lack of production of this product in the United States in sufficient and reasonably available quantities and of a satisfactory quality in order to meet the City's design specifications.The March 31, 2009 Delegation of Authority Memorandum provided Regional Administrators with the authority to issue exceptions to Section 1605 of ARRA within the geographic boundaries of their respective regions and with respect to requests by individual grant recipients. Having established both a proper basis to specify the particular good required for this project, and that this manufactured good was not available from a producer in the United States, the City is hereby granted a waiver from the Buy American requirements of Section 1605(a) of Public Law 111-5 for the purchase three ABB ultra low harmonics (ULH) ACS800 Series variable frequency drives (VFDs): 75-HP VFD, 100-HP VFD, and 150-HP VFD manufactured in Helsinki, Finland by ABB in the City's request of July 21, 2010. This supplementary information constitutes the detailed written justification required by Section 1605(c) for waivers based on a finding under subsection (b).

Authority: Pub. L. 111-5, section 1605.

Dated: October 13, 2010.
Dennis J. Mclerran,
Regional Administrator, EPA, Region 10.

[FR Doc. 2010-27277 Filed 10-27-10; 8:45 am]

BILLING CODE 6560-50-P